DEPARTMENT OF AGRICULTURE

Rural Business-Cooperative Service

[Docket No. RBS-23-BUSINESS-0027]

Business and Industry (B&I) Priority Scoring Notice for Fiscal Year 2024

AGENCY: Rural Business-Cooperative Service.

ACTION: Notice.

SUMMARY: The Rural Business-Cooperative Service (RBCS), Rural Housing Service (RHS), and the Rural Utilities Service (RUS), agencies of the Rural Development (RD) mission area within the U.S. Department of Agriculture (USDA), hereinafter collectively referred to as the Agency, offer loan guarantees through four programs: Community Facilities (CF) administered by the RHS; Water and Waste Disposal (WWD) administered by the RUS; and Business and Industry (B&I) and Rural Energy for America Program (REAP) administered by the RBCS. This notice is establishing a minimum priority score of 20 points, not including administrative points, for B&I loan guarantees for Fiscal Year (FY) 2024, to be used when applying for guaranteed loans. This notice is being published prior to the passage of an FY 2024 appropriation.

DATES: The minimum priority score in this notice is effective October 1, 2023.

FOR FURTHER INFORMATION CONTACT: For information specific to this notice contact Brenda Griffin, Chief, Underwriting Branch, Rural Business-Cooperative Service, Rural Development, USDA, 1400 Independence Avenue SW, Washington, DC 20250-1522. Telephone: (202) 720-6802. Email: Brenda.Griffin@usda.gov. For information regarding implementation, contact your respective Rural Development State Office listed here: http://www.rd.usda.gov/browse-state.

SUPPLEMENTARY INFORMATION: In accordance with 7 CFR 5001.315(c)(2), for FY 2024 the Agency is establishing a minimum priority score of 20 points, not including administrative points, for B&I loan guarantees due to strong demand for program funds. Priority points for B&I loan guarantee applications will be awarded in accordance with the priorities outlined in 7 CFR 5001.318, B&I Priority Point System. At the time of application, lenders must provide necessary information related to determining the priority score. To the greatest extent possible, lenders should consider the established priorities of the Agency when submitting projects for a loan guarantee. All applications that meet the minimum priority score will be processed on an ongoing basis and funds will be awarded continuously through August 30, 2024, subject to the availability of funding.

Beginning on September 3, 2024, all remaining unfunded B&I applications will compete for funds remaining after all state allocations are pooled into the National Office. Applications that do not meet the minimum applicable score will be allowed to compete in this funding competition if funding remains available. Any applications that remain unfunded after the funding competition will be handled as described in 7 CFR 5001.315(e).

Administrative Points

In the event there are not enough funds available to fund all applications during the funding competition beginning on September 3, 2024, projects that have a tie score can be awarded administrative points as outlined in 7 CFR 5001.318(e). These Administrative points will be awarded to applications that help meet the FY2024 Rural Development Priorities to;

1. Assist rural communities to recover economically through more and better market opportunities and through improved infrastructure.

2. Ensure all rural residents have equitable access to RD programs and benefits from RD funded projects.

3. Reduce climate pollution and increase resilience to the impacts of climate change through economic support for rural communities.

The Agency will verify that the project is located in an area that addresses these three priorities using the maps at https://www.rd.usda.gov/priority-points/rural-development-priorities-fy-2024. If a tie remains, the Agency will give priority to the project that will create and/or save the most jobs.

Non-Discrimination Statement

In accordance with Federal civil rights law and U.S. Department of Agriculture (USDA) civil rights regulations and policies, the USDA, its agencies, offices, and employees, and institutions participating in or administering USDA Programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA through the 711 Relay Service. Program information may be made available in languages other than English.

To file a program discrimination complaint, a complainant should complete a Form, AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202)690-7442; or

(3) email: program.intake@usda.gov.

USDA is an equal opportunity provider, employer, and lender.

Karama Neal,
Administrator, Rural Business-Cooperative Service, USDA Rural Development.

[FR Doc. 2023-26802 Filed 12-6-23; 8:45 am]

BILLING CODE 3410-XY-P